DEPARTMENT OF ENERGY

Agency Information Collection Extension

AGENCY: Department of Energy.

ACTION: Submission for Office of Management and Budget (OMB) review; comment request.

SUMMARY: The Department of Energy (DOE) has submitted an information collection request to the OMB for extension under the provisions of the Paperwork Reduction Act of 1995. The information collection requests a three-year extension of its collection, titled U.S. Department of Energy Better Buildings Challenge, Better Buildings Alliance and the Better Buildings, Better Plants Voluntary Pledge Program, OMB Control Number 1910-5141. The proposed collection will allow DOE to operate voluntary programs intended to drive energy efficiency and emissions reductions within the marketplace. Questions will allow DOE to recognize program partners for their success, build web pages that educate the public on successful energy efficiency strategies, and draft publicly available progress reports.

DATES: Comments regarding this collection must be received on or before November 14, 2022. If you anticipate that you will be submitting comments but find it difficult to do so within the period allowed by this notice, please advise the OMB Desk Officer of your intention to make a submission as soon as possible. The Desk Officer may be telephoned at (202) 881-8585.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Maria Vargas, EE-5A/Forrestal Building, 1000 Independence Avenue SW, Washington, DC 20585, by phone at (202) 586-7899, by fax at (202) 586-8177, or by email at maria.vargas@ee.doe.gov.

SUPPLEMENTARY INFORMATION: This information collection request contains: (1) OMB No.: 1910-5141; (2) Information Collection Request Title: U.S. Department of Energy Better Buildings Challenge, Better Buildings Alliance and the Better Buildings, Better Plants Voluntary Pledge Program; (3) Type of Request: Extension with Revision of a Currently Approved Collection; (4) Purpose: This Information Collection Request applies to four Department of Energy (DOE) voluntary leadership initiatives that fall under DOE's Better Buildings Initiative. Respondents will be representatives from organizations that have voluntary joined one of these initiatives. The information will be used to recognize program partners for their success, build web pages that educate the public on successful energy efficiency strategies, and draft publicly available progress reports; (5) Annual Estimated Number of Respondents: 841; (6) Annual Estimated Number of Total Responses: 841; (7) Annual Estimated Number of Burden Hours: 1,854.25; (8) Annual Estimated Reporting and Recordkeeping Cost Burden: $84,869.

Statutory Authority

Section 421 ¹ of the Energy Independence and Security Act of 2007 (EISA 2007) (42 U.S.C. 17081) authorizes DOE to establish a national high-performance green building clearinghouse. Section 911 of the Energy Policy Act of 2005, as amended (42 U.S.C. 16191), instructs DOE to conduct programs that include research, development, demonstration, and commercial application of cost-effective technologies to improve the energy efficiency and environmental performance of buildings. Additionally, Section 106 of the Energy Policy Act of 2005 (EPAct 2005, Pub. L. 190-58) permits the U.S. Secretary of Energy to enter into voluntary agreements with industry to reduce energy intensity by not less than 2.5 percent per year.

¹ Section 421, Subtitle G of EISA 2007 requires the submission of a biennial report detailing activities and accomplishments in support of the High-Performance Green Building Initiatives and other government initiatives that affect commercial buildings.

Signing Authority

This document of the Department of Energy was signed on October 4, 2022, by Carolyn Snyder, Deputy Assistant Secretary for Energy Efficiency, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on October 7, 2022.
Treena V. Garrett,
Federal Register Liaison Officer, U.S. Department of Energy.

[FR Doc. 2022-22222 Filed 10-12-22; 8:45 am]

BILLING CODE 6450-01-P